DEPARTMENT OF AGRICULTURE

Agricultural Marketing Service

7 CFR Part 996

[Docket No. AMS-FV-10-0030, FV10-996-610 Review]

Minimum Quality and Handling Standards for Domestic and Imported Peanuts Marketed in the United States; Section 610 Review

AGENCY: Agricultural Marketing Service, USDA.

ACTION: Notice of review and request for comments.

SUMMARY: This document announces that the Agricultural Marketing Service (AMS) plans to review 7 CFR part 996, Minimum Quality and Handling Standards for Domestic and Imported Peanuts Marketed in the United States, under the criteria contained in section 610 of the Regulatory Flexibility Act (RFA).

DATES: Written comments on this notice must be received by June 28, 2010.

ADDRESSES: Interested persons are invited to submit written comments concerning this notice of review. Comments must be sent to the Docket Clerk, Marketing Order Administration Branch, Fruit and Vegetable Programs, AMS, USDA, 1400 Independence Avenue, SW., Stop 0237, Washington, DC 20250-0237; Fax: (202) 720-8938, or Internet: http://www.regulations.gov. All comments should reference the docket number and the date and page number of this issue of the Federal Register and will be made available for public inspection in the Office of the Docket Clerk during regular business hours, or may be viewed at: http://www.regulations.gov. All comments submitted in response to this notice will be included in the record and will be made available to the public. Please be advised that the identity of the individuals or entities submitting the comments will be made public on the Internet at the address provided above.

FOR FURTHER INFORMATION CONTACT: Martin Engeler, Marketing Order Administration Branch, Fruit and Vegetable Programs, AMS, USDA, 2202 Monterey St., Fresno, California 93721; Telephone: (559) 487-5110; Fax: (559) 487-5906; or E-mail: Martin.Engeler@ams.usda.gov.; or Kenneth G. Johnson, DC Marketing Field Office, Marketing Order Administration Branch, Fruit and Vegetable Programs, AMS, USDA, Unit 155, 4700 River Road, Riverdale, MD 20737; Telephone: (301) 734-5243; Fax: (301) 734-5275; or E-mail: Kenneth.Johnson@usda.gov.

SUPPLEMENTARY INFORMATION: The Minimum Quality and Handling Standards for Domestic and Imported Peanuts Marketed in the United States (Standards), as amended (7 CFR Part 996), were established pursuant to Public Law 107-171, the Farm Security and Rural Investment Act of 2002 (Farm Bill). The Standards regulate the quality and handling of domestic and imported peanuts marketed in the United States.

AMS published in the Federal Register on August 14, 2003 (68 FR 48574), its plan to review certain regulations, including the Standards, under criteria contained in section 610 of the RFA (5 U.S.C. 601-612). Because many AMS regulations impact small entities, AMS has decided, as a matter of policy, to review certain regulations which, although they may not meet the threshold requirement under section 610 of the RFA, warrant review.

The purpose of the review will be to determine whether the Standards should be continued without change, amended, or rescinded, consistent with the stated objectives of applicable statutes, to minimize the impacts on small entities. In conducting this review, AMS will consider the following factors: (1) The continued need for the Standards; (2) the nature of complaints or comments received from the public concerning the Standards; (3) the complexity of the Standards; (4) the extent to which the Standards overlap, duplicate, or conflict with other Federal rules, and, to the extent feasible, with State and local governmental rules; and (5) the length of time since the Standards have been evaluated, or the degree to which technology, economic conditions, or other factors have changed in the areas affected by the Standards.

Written comments, views, opinions, and other information regarding the impact the Standards have on small businesses are invited.

Dated: April 22, 2010.
David R. Shipman,
Acting Administrator, Agricultural Marketing Service.

[FR Doc. 2010-9833 Filed 4-27-10; 8:45 am]

BILLING CODE P